FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 003129F.

Name: Traffic Care International Corp.

Address: 9550 Flair Drive, Suite 509, El Monte, CA 91731.

Date Revoked: March 21, 2012.

Reason: Voluntarily surrendered license.

License Number: 019289N.

Name: Aramex International Courier, Ltd., dba Aramex.

Address: 182-25 150th Avenue, Springfield Gardens, NY 11413.

Date Revoked: April 13, 2012.

Reason: Voluntarily surrendered license.

License Number: 020597N.

Name: Ferrara International Worldwide Inc.

Address: 1319 North Broad Street, Hillside, NJ 07205.

Date Revoked: February 16, 2012.

Reason: Failed to maintain a valid bond.

License Number: 021797N.

Name: Four Points Ocean Inc.

Address: 1460 Route 9, Suite 303, Woodridge, NJ 07095.

Date Revoked: March 1, 2012.

Reason: Failed to maintain a valid bond.

License Number: 022539F.

Name: Preferred Movers International, LLC.

Address: 3201 Ambrose Avenue, Nashville, TN 37207.

Date Revoked: April 5, 2012.

Reason: Voluntarily surrendered license.

Vern W. Hill,
Director, Bureau of Certification and Licensing.

[FR Doc. 2012-9987 Filed 4-24-12; 8:45 am]

BILLING CODE 6730-01-P